ENVIRONMENTAL PROTECTION AGENCY

[CA 313-0476; FRL-7872-9]

Adequacy Status of the San Joaquin Valley Unified Air Pollution Control District, California, Submitted Ozone Attainment Plan for Transportation Conformity Purposes

AGENCY: Environmental Protection Agency (EPA).

ACTION: Notice of adequacy determination.

SUMMARY: In this notice, EPA is notifying the public that we have found that the motor vehicle emissions budgets contained in the submitted 2004 State Implementation Plan for Ozone in the San Joaquin Valley are adequate for transportation conformity purposes.

As a result of our finding, the various transportation planning agencies in the San Joaquin Valley and the Federal Highway Administration must use the VOC and NOX motor vehicle emissions budgets from the submitted 2004 State Implementation Plan for Ozone in the San Joaquin Valley for future conformity determinations.

DATES: This determination is effective March 2, 2005.

FOR FURTHER INFORMATION CONTACT: The finding is available at EPA's conformity Web site: http://www.epa.gov/oms/transp/traqconf.htm (once there, click on the “Transportation Conformity” link, then look for “Adequacy Web Pages”).

You may also contact David Wampler, U.S. EPA, Region IX, Air Division AIR-2, 75 Hawthorne Street, San Francisco, CA 94105; (415) 972-3975, or wampler.david@epa.gov.

SUPPLEMENTARY INFORMATION: This notice announces our finding that the emissions budgets contained in the 2004 State Implementation Plan ¹ for Ozone in the San Joaquin Valley (“Ozone Plan”), submitted by the State of California on behalf of the San Joaquin Valley Unified Air Pollution Control District on November 15, 2004, are adequate for transportation conformity purposes. EPA Region IX made this finding in a letter to the State of California, Air Resources Board on February 7, 2005. We are also announcing this finding on our conformity Web site: http://www.epa.gov/oms/transp/traqconf.htm (once there, click on the “Transportation Conformity” link, then look for “Adequacy Web Pages”).

¹ The submitted Ozone Plan includes a rate-of-progress demonstration for milestone years 2008 and 2010 and a demonstration that the San Joaquin Valley will attain by no later than the 2010 attainment date for areas classified “extreme” under the federal 1-hour ozone standard.

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). One of these criteria is that the motor vehicle emissions budgets, when considered together with all other emission sources, is consistent with applicable requirements for the reasonable further progress plan. We have preliminarily determined that the 2004 State Implementation Plan for Ozone in the San Joaquin Valley plan meets the necessary rate of progress reductions for milestone years 2008 and 2010 and demonstrates attainment by no later than 2010. Therefore, the motor vehicle emissions budgets can be found adequate. Please note that an adequacy review is separate from EPA's completeness review, and it also should not be used to prejudge EPA's ultimate approval of the submitted plan itself. Even if we find a budget adequate, the submitted plan could later be disapproved.

We have described our process for determining the adequacy of submitted SIP budgets in guidance (May 14, 1999 memo titled “Conformity Guidance on Implementation of March 2, 1999 Conformity Court Decision”). This guidance is now reflected in the amended transportation conformity rule, July 1, 2004 (69 FR 40004), and in the correction notice, July 20, 2004 (69 FR 43325). We followed this process in making our adequacy determination on the motor vehicle emissions budgets contained in the 2004 State Implementation Plan for Ozone in the San Joaquin Valley.

Authority: 42 U.S.C. 7401-7671q.

Dated: February 8, 2005.
Karen Schwinn,
Acting Regional Administrator, Region IX.

[FR Doc. 05-2890 Filed 2-14-05; 8:45 am]

BILLING CODE 6560-50-P